DEPARTMENT OF ENERGY

Orders Granting Authority To Import and Export Natural Gas, To Import and Export Liquefied Natural Gas, Denying Request for Rehearing, and To Vacate Prior Authorization During December 2015

| FE Docket Nos.
ENSORCIA AMERICA LLC | 15-164-LNG
AIR FLOW NORTH AMERICA CORP | 14-206-LNG
FREEPORT LNG EXPANSION, L.P., FLNG LIQUEFACTION, LLC, FLNG, LIQUEFACTION 2, LLC, and FLNG, LIQUEFACTION 3, LLC (collectively, FLEX) | 11-161-LNG
CONOCOPHILLIPS COMPANY | 15-130-LNG
MACQUARIE ENERGY LLC | 15-181-NG
MACQUARIE ENERGY LLC | 15-182-LNG
MACQUARIE ENERGY LLC | 15-183-LNG
SIERRA PACIFIC POWER COMPANY, d/b/a NV ENERGY | 15-179-NG
IRVING OIL TERMINALS INC | 15-175-NG
PUGET SOUND ENERGY, INC | 15-178-NG
HOUSTON PIPE LINE COMPANY LP | 15-185-NG
PEMEX TRANSFORMACION INDUSTRIAL | 15-174-NG
AUX SABLE CANADA LP | 15-188-NG
UNIPER GLOBAL COMMODITIES NORTH AMERICA LLC | 15-180-NG
IRVING OIL COMMERCIAL GP and IRVING OIL OIL TERMINALS OPERATIONS INC | 15-165-NG

AGENCY: Office of Fossil Energy, Department of Energy.

ACTION: Notice of orders.

SUMMARY: The Office of Fossil Energy (FE) of the Department of Energy gives notice that during December 2015, it issued orders granting authority to import and export natural gas, to import and export liquefied natural gas (LNG), denying request for rehearing, and to vacate prior authority. These orders are summarized in the attached appendix and may be found on the FE Web site at http://energy. gov/fe/downloads/listing-doefe-authorizationsorders-issued-2015.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on January 20, 2016.
John A. Anderson,
Director, Office of Regulation and International Engagement, Office of Oil and Natural Gas.

Appendix— DOE/FE Orders Granting Import/Export Authorizations
3752 | 12/30/15 | 15-164-LNG | Ensorcia America LLC | Order blanket authority to export LNG to Mexico in ISO Containers transported by vessel.
3753 | 12/04/15 | 14-206-LNG | Air Flow North America Corp | Final Opinion and Order granting long-term Multi-contract authorization to export LNG in ISO Containers loaded at the Clean Energy Fuels Corp. LNG Production Facility in Willis, Texas, and exported by vessel to Non-free Trade Agreement nations in Central America, South America, the Caribbean or Africa.
3357-C | 12/04/15 | 11-161-LNG | Freeport LNG Expansion, L.P., FLNG Liquefaction, LLC, FLNG Liquefaction 2, LLC, and FLNG Liquefaction 3, LLC (collectively, FLEX) | Opinion and Order Denying Request for Rehearing of Orders granting long-term, Multi-contract authorization to export LNG by vessel from the Freeport LNG Terminal on Quintana Island, Texas, to Non-free Trade Agreement Nations.
3754 | 12/16/15 | 15-130-LNG | ConocoPhillips Company | Order granting blanket authority to previously imported LNG by vessel.
3755 | 12/30/15 | 15-181-NG | Macquarie Energy LLC | Order granting blanket authority to import/export natural gas from/to Canada/Mexico.
3756 | 12/30/15 | 15-182-LNG | Macquarie Energy LLC | Order granting blanket authority to import/export LNG from/to Canada/Mexico by truck.
3757 | 12/30/15 | 15-183-LNG | Macquarie Energy LLC | Order granting blanket authority to LNG from various international sources by vessel.
3758 | 12/30/15 | 15-179-NG | Sierra Pacific Power Company d/b/a NV Energy | Order granting blanket authority to import natural gas from Canada.
3759 | 12/30/15 | 15-175-NG | Irving Oil Terminals Inc | Order granting blanket authority to import natural gas from Canada.
3760 | 12/30/15 | 15-178-NG | Puget Sound Energy, Inc | Order granting blanket authority to import/export natural gas from/to Canada.
3761 | 12/30/15 | 15-185-NG | Houston Pipe Line Company LP | Order granting blanket authority to import/export natural gas from/to Mexico.
3762 | 12/30/15 | 15-174-NG | Pemex Transformacion Industrial | Order granting blanket authority to import/export natural gas from/to Canada/Mexico, and to import LNG from various international sources by vessel, and vacating prior authorization.
3763 | 12/30/15 | 15-188-NG | Aux Sable Canada LP | Order granting blanket authority to import natural gas from Canada.
3764 | 12/30/15 | 15-180-NG | Uniper Global Commodities North America LLC | Order granting blanket authority to import/export natural gas from/to Canada, and vacating prior authorization.
3765 | 12/30/15 | 15-165-NG | Irving Oil Commercial GP and Irving Oil Terminals Operations Inc | Order granting long-term authority to import/export natural gas from/to Canada.

[FR Doc. 2016-01492 Filed 1-25-16; 8:45 am]

BILLING CODE 6450-01-P